DEPARTMENT OF TRANSPORTATION

Federal Aviation Administration

14 CFR Part 73

[Docket No. FAA-2003-13850; Airspace Docket No. 02-AEA-19]

RIN 2120-AA66

Establishment of Restricted Areas 5802C, D, and E; Fort Indiantown Gap, PA

AGENCY: Federal Aviation Administration (FAA), DOT.

ACTION: Final rule; correction.

SUMMARY: This action corrects a final rule published in the Federal Register on August 5, 2004. In that rule, the legal descriptions for Restricted Area 5802C, 5802D, and 5802E (R-5802C, R-5802D, and R-5802E) contained an inadvertent error in the time of designation. This action corrects that error.

DATES: Effective Date: 0901 UTC, September 30, 2004.

FOR FURTHER INFORMATION CONTACT: Paul Gallant, Airspace and Rules, Office of System Operations and Safety, Federal Aviation Administration, 800 Independence Avenue, SW., Washington, DC 20591; telephone: (202) 267-8783.

SUPPLEMENTARY INFORMATION: On August 5, 2004, Airspace Docket No. 02-AEA-19 (69 FR 47358) was published in the Federal Register establishing R-5802C, R-5802D, and R-5802E, at Fort Indiantown Gap, PA (69 FR 47358). The descriptions for R-5802C, D, and E contained an inadvertent error in the time of designation. The time of designation for the period “February 15 through May 10 and September 1 through December 15” was incorrectly listed in the rule as “0800-2400 local time.” The correct time for that period should have read “0800-2300 local time.” All other time periods listed in the rule are correct.

Correction to Final Rule

Accordingly, pursuant to the authority delegated to me, the legal descriptions for R-5802C, R-5802D, and R-5802E as published in the Federal Register on August 5, 2004 (69 FR 47358), are corrected as follows:

§ 73.58 [Corrected]

On page 47360, correct the time of designation in the legal descriptions for R-5802C, R-5802D, and R-5802E as follows:

* * * * *

R-5802C Fort Indiantown Gap, PA [Corrected]

By removing the published time of designation and substituting the following: Time of designation. February 15 through May 10 and September 1 through December 15, 0800-2300 local time on Saturdays and 0800-1200 local time on Sundays; May 11 through August 31, 0800-2400 local time on Saturdays and 0800-2000 local time on all other days; other times by NOTAM issued at least 48 hours in advance.

R-5802D Fort Indiantown Gap, PA [Corrected]

By removing the published time of designation and substituting the following: Time of designation. February 15 through May 10 and September 1 through December 15, 0800-2300 local time on Saturdays and 0800-1200 local time on Sundays; May 11 through August 31, 0800-2400 local time on Saturdays and 0800-2000 local time on all other days; other times by NOTAM issued at least 48 hours in advance.

R-5802E Fort Indiantown Gap, PA [Corrected]

By removing the published time of designation and substituting the following: Time of designation. February 15 through May 10 and September 1 through December 15, 0800-2300 local time on Saturdays and 0800-1200 local time on Sundays; May 11 through August 31, 0800-2400 local time on Saturdays and 0800-2000 local time on all other days; other times by NOTAM issued at least 48 hours in advance.

* * * * *

Issued in Washington, DC, on September 22, 2004.
Reginald C. Matthews,
Manager, Airspace and Rules.

[FR Doc. 04-21739 Filed 9-27-04; 8:45 am]

BILLING CODE 4910-13-P